DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from December 14 to December 18, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: March 3, 2010.
J. Paul Loether,
Chief, National Register of Historic Places/National Historic Landmarks Program.

KEY: State, County, Property Name, Address/Boundary, City, Vicinity, Reference Number, Action, Date, Multiple Name

IOWA

Dallas County

Adel Public Square Historic District, About four blocks in downtown Adel centered on the Public Square, Adel, 09000106, LISTED, 12/18/09

Polk County

Mattes, Minnie Y. and Frank P., House, 1305 34th St., Des Moines, 09001090, LISTED, 12/16/09 (Architectural Legacy of Proudfoot & Bird in Iowa MPS)

KANSAS

Bourbon County

Fort Scott Downtown Historic District, Oak to 3rd St., Scott Ave. to National Ave., Fort Scott, 09001091, LISTED, 12/18/09

Doniphan County

Wathena Fruit Growers' Association Building, 104 3rd St., Wathena, 09001092, LISTED, 12/17/09

MARYLAND

Anne Arundel County

Quarter Place, 216 Marlboro Rd., Lothian, 09001094, LISTED, 12/18/09

Scott, Lula G., Community Center, 6243 Shady Side Rd., Shady Side, 09001093, LISTED, 12/18/09 (Rosenwald Schools of Anne Arundel County, Maryland MPS)

MASSACHUSETTS

Middlesex County

Crafts Street City Stable, 90 Crafts St., Newton, 09001095, LISTED, 12/18/09 (Newton MRA)

Plymouth County

Marshfield Hills HD, Bow, Highland, Main, Old Main, Pleasant and Prospect Sts., Glen, Marshfield, 09001096, LISTED, 12/18/09

Pinewoods Camp, 80 Cornish Field Rd., Plymouth, 09001151, LISTED, 12/16/09

MICHIGAN

Wayne County

Detroit Financial District, Bounded by Woodward & Jefferson and Lafayette & Washington Blvd., Detroit, 09001067, LISTED, 12/14/09

MINNESOTA

Blue Earth County

Mapleton Public Library, 104 1st. Ave. NE, Mapleton, 09001097, LISTED, 12/18/09

MISSOURI

Jackson County

Switzer School Buildings, generally bounded by Madison Ave. and Summit St., 18th to 20th Sts., Kansas City, 09001098, LISTED, 12/18/09

St. Louis Independent City

Marine Villa Neighborhood Historic District, Roughly bounded by S. Broadway, Chippewa, Cahokia, Kosciusko & Winnebago, St. Louis, 09001099, LISTED, 12/18/09 (South St. Louis Historic Working and Middle Class Streetcar Suburbs MPS)

NEW JERSEY

Hunterdon County

Case-Dvoor Farmstead, 111 Mine St., Raritan, 09001074, LISTED, 12/11/09

Monmouth County

Carlton, Theatre, The, 99 Monmouth St., Red Bank Borough, 09001100, LISTED, 12/18/09

Somerset County

Boudinot—Southard Farmstead, 135 N. Maple Ave., Bernards Township, 09001101, LISTED, 12/18/09

Six Mile Run Reformed Church, 3037 NJ 27, Franklin, 09001102, LISTED, 12/18/09

NORTH CAROLINA

Catawba County

Claremont High School Historic District (Boundary Increase), 505-753 N. Center St., 102-126 and 401 2nd Ave NE, 406-602 3rd Ave. NE, 12-118 5th Ave. NW, 212-258 5th Ave., Hickory, 09001103, LISTED, 12/18/09 (Hickory MRA)

Wake County

Meadowbrook Country Club, 8025 Country Club Dr., Garner vicinity, 09001106, LISTED, 12/16/09

UTAH

San Juan County

Neck and Cabin Spings Grazing Area, Grand View Point Rd. Moab, 09001108, LISTED, 12/18/09

WYOMING

Albany County

University Neighborhood Historic District, Roughly bounded by 6th St., 15th St., University Ave. and Custer St., Laramie, 09001109, LISTED, 12/18/09

Big Horn County

Carey Block, 602 Greybull Ave., Greybull, 09001110, LISTED, 12/18/09

[FR Doc. 2010-4989 Filed 3-8-10; 8:45 am]

BILLING CODE 4312-51-P